DEPARTMENT OF THE INTERIOR

Bureau of Land Management

[LLCON06000-L16100000-DQ0000]

Notice of Resource Advisory Council Meetings for the Dominguez-Escalante National Conservation Area Advisory Council

AGENCY: Bureau of Land Management, Interior.

ACTION: Notice of public meetings

SUMMARY: In accordance with the Federal Land Policy and Management Act of 1976 and the Federal Advisory Committee Act of 1972, notice is hereby given that the U.S. Department of the Interior, Bureau of Land Management (BLM) Dominguez-Escalante National Conservation Area (NCA) Advisory Council (Council) is scheduled to meet as indicated below.

DATES: The meetings will be held on October 22, 2013, and October 24, 2013. The meetings begin at 3 p.m. and will normally adjourn at 6 p.m. Any adjustments to the meetings will be advertised on the Dominguez-Escalante NCA Resource Management Plan (RMP) Web site, http://www.blm.gov/co/st/en/nca/denca/denca_rmp.html.

ADDRESSES: The meeting on October 22 will be held at the Bill Heddles Recreation Center, 530 Gunnison River Drive, Delta, CO 81416. The meeting on October 24 will be held at the Whitman Educational Center, 248 S. 4th St., Grand Junction, CO 81501.

FOR FURTHER INFORMATION CONTACT: Collin Ewing, Advisory Council Designated Federal Official, 2815 H Road, Grand Junction, CO 81506. Phone: (970) 244-3049. Email: cewing@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 10-member Council advises the Secretary of the Interior, through the BLM, on a variety of planning and management issues associated with the RMP process for the Dominguez-Escalante NCA and Dominguez Canyon Wilderness.

Topics of discussion during the meetings may include informational presentations from various resource specialists working on the RMP, as well as Council reports on the following topics: recreation, fire management, land-use planning process, invasive species management, travel management, wilderness, land exchange criteria, cultural resource management and other resource management topics of interest to the Council raised during the planning process.

These meetings are anticipated to occur monthly, and may occur as frequently as every two weeks during intensive phases of the planning process. Dates, times and agendas for additional meetings may be determined at future Council meetings, and will be published in the Federal Register, announced through local media and on the BLM's Web site for the Dominguez-Escalante planning effort, www.blm.gov/co/st/en/nca/denca/denca_rmp.html.

These meetings are open to the public. The public may present written comments to the Council. Each formal Council meeting will have time allocated at the middle and end of each meeting to hear public comments. Depending on the number of persons wishing to comment and time available, the time for individual, oral comments may be limited at the discretion of the chair.

Helen M. Hankins,
BLM Colorado State Director.

[FR Doc. 2013-23445 Filed 9-26-13; 8:45 am]

BILLING CODE 4310-JB-P